NUCLEAR REGULATORY COMMISSION

[Docket Nos. 72-7 and 50-255; License No. DPR-20]

Nuclear Management Company, LLC; Consideration of Request for Action Under 10 CFR 2.206

AGENCY: Nuclear Regulatory Commission.

ACTION: Receipt and consideration of request for action under 10 CFR 2.206.

FOR FURTHER INFORMATION CONTACT: L. Raynard Wharton, Senior Project Manager, Spent Fuel Project Office, Office of Nuclear Material Safety and Safeguards, U.S. Nuclear Regulatory Commission, Washington, DC 20555. Telephone: (301) 415-1396; Fax number: (301) 415-8555: E-mail: Irw@nrc.gov.

Introduction

Notice is hereby given that by petition dated April 4, 2006, Mr. Terry J. Lodge (Counsel for Petitioners) has requested that the Nuclear Regulatory Commission (NRC) take action with regard to the Nuclear Management Company, LLC (NMC) Palisades Nuclear Plant (PNP). The petitioners' request that the NRC take enforcement action against PNP by condemning and stopping the use of the two independent spent fuel storage installation (ISFSI) concrete pads, constructed in 1992 and 2003, which hold dry spent fuel storage casks at the plant site.

Request

As the basis for the request, the petitioners state that both ISFSI concrete pads at PNP do not conform to NRC requirements for earthquake stability standards and pose a distinct hazard in the event of an earthquake.

The request concerning slope stability of the 2003 concrete pad is being treated pursuant to 10 CFR 2.206 of the Commission's regulations. The request has been referred to the Director of the Spent Fuel Project Office within the Office of Nuclear Material Safety and Safeguards. As provided by 10 CFR 2.206, appropriate action will be taken on this petition within a reasonable time. Representatives of Mr. Lodge spoke with the Petition Review Board on April 26, 2006, to discuss the petition. The results of that discussion were considered in the Board's determination regarding condemning and stopping the use of the two ISFSI concrete pads and in establishing a schedule for the review of the petition. By letter dated June 27, 2006, the Spent Fuel Project Office Deputy Director accepted the petition for review in part, specifically with respect to slope stability of the concrete pad constructed in 2003.

Further Information

A copy of the petition may be inspected at NRC's Public Electronic Reading Room at http://www.nrc.gov/reading-rm/adams.html. This document may also be viewed electronically on the public computers located at the NRC's Public Document Room (PDR), O-1F21, One White Flint North, 11555 Rockville Pike, Rockville, MD 20852. The PDR reproduction contractor will copy documents for a fee. Persons who do not have access to the NRC's Agencywide Documents Access and Management System (ADAMS) or who encounter problems in accessing the documents located in ADAMS, should contact the NRC PDR Reference staff by telephone at 1-800-397-4209 or (301) 415-4737, or by e-mail to pdr@nrc.gov.

Dated at Rockville, Maryland this 27th day of June, 2006.
For the Nuclear Regulatory Commission.
L. Raynard Wharton,
Senior Project Manager, Spent Fuel Project Office, Office of Nuclear Material Safety and Safeguards.

[FR Doc. E6-10525 Filed 7-5-06; 8:45 am]

BILLING CODE 7590-01-P